DEPARTMENT OF TRANSPORTATION

Federal Aviation Administration

14 CFR Part 39

[Docket No. 2000-NE-02; Amendment 39-12640; AD 2002-02-12]

RIN 2120-AA64

Airworthiness Directives; Rolls-Royce plc RB211-524G and -524H Series Turbofan Engines; Correction

AGENCY: Federal Aviation Administration, DOT.

ACTION: Final rule; correction.

SUMMARY: This document makes a correction to Airworthiness Directive (AD) 2002-02-12, applicable to Rolls-Royce plc (RR) RB211-524G and -524H series turbofan engines that was published in the Federal Register on February 14, 2002 (67 FR 6859). The Amendment number is incorrect and this document corrects that number. In all other respects, the original document remains the same.

EFFECTIVE DATE: March 21, 2002.

FOR FURTHER INFORMATION CONTACT: Keith Mead, Aerospace Engineer, Engine Certification Office, FAA, Engine and Propeller Directorate, 12 New England Executive Park, Burlington, MA 01803-5299; telephone (781) 238-7744 fax (781) 238-7199.

SUPPLEMENTARY INFORMATION: A final rule airworthiness directive applicable to Rolls-Royce plc (RR) RB211-524G and -524H series turbofan engines, was published in the Federal Register on February 14, 2002 (67 FR 6859). The following correction is needed:

On page 6859, in the first column, the Amendment No. in the fifth line of the Heading is corrected to read “Amendment 39-12640.”

PART 39—[CORRECTED]

§ 39.13 [Corrected]

On page 6860, in the third column, in amendatory instruction 2, in the fifth line, and in the heading of the AD, beginning in the first line, correct “Amendment 39-12460” to read “Amendment 39-12640”.

Issued in Burlington, MA, on March 12, 2002.
Francis A. Favara,
Acting Manager, Engine and Propeller Directorate, Aircraft Certification Service.

[FR Doc. 02-6531 Filed 3-19-02; 8:45 am]

BILLING CODE 4910-13-U